DEPARTMENT OF COMMERCE

National Oceanic and Atmospheric Administration

DEPARTMENT OF THE INTERIOR

Fish and Wildlife Service

RIN 0648-XE317

Notice of Intent to Prepare a Joint Environmental Impact Statement for a Programmatic Review of Harvest Actions for Salmon and Steelhead in the Columbia River Basin Related to U.S. v. Oregon

AGENCY: National Marine Fisheries Service (NMFS), National Oceanic and Atmospheric Administration (NOAA), Commerce; and United States Fish and Wildlife Service (USFWS), Interior.

ACTION: Notice of intent.

SUMMARY: Pursuant to the National Environmental Policy Act (NEPA), this notice announces that NMFS and USFWS (together, the Services) intend to prepare a joint Environmental Impact Statement (EIS) conducting a programmatic review of harvest actions for salmon and steelhead in the action area, which is the Columbia River Basin (the Proposed Action), to inform the Services' proposed signing of the post-2017 U.S. v. Oregon Management Agreement and the Endangered Species Act (ESA) Section 7 consultation process. The Services provide this notice to advise other agencies and the public of their plans to analyze effects related to the action and to obtain suggestions and information that may be useful to the scope of issues and alternatives to include in the EIS.

DATES: Written or electronic scoping comments must be received at the appropriate address or email mailbox (see ADDRESSES) on or before August 1, 2016.

ADDRESSES: You may submit comments by one of the following methods:

• Email: USvORNEPA@noaa.gov and/or USvORNEPA@fws.gov.

• Mail: William W. Stelle, Jr., Regional Administrator, West Coast Region, NMFS, 7600 Sand Point Way NE., Seattle, WA 98115-6349; and/or Theresa Rabot, Deputy Regional Director, Pacific Region, U.S. Fish and Wildlife Service, 911 NE. 11th Avenue, Portland, OR 97232.

FOR FURTHER INFORMATION CONTACT: Peggy Mundy, NMFS West Coast Region, telephone: 206-526-4323, email: peggy.mundy@noaa.gov; or Mark Bagdovitz, USFWS, Pacific Region, telephone: 503-736-4711, email: mark_bagdovitz@fws.gov.

SUPPLEMENTARY INFORMATION:

Background

The States of Oregon, Washington, and Idaho; the Nez Perce Tribe, the Confederated Tribes of the Umatilla Indian Reservation, the Confederated Tribes of the Warm Springs Reservation of Oregon, the Confederated Tribes and Bands of the Yakama Nation (collectively, the Columbia River Treaty Tribes); the Shoshone-Bannock Tribes; and the United States (as represented by the Bureau of Indian Affairs and the Services) (hereafter “Parties”), are parties to U.S. v. Oregon, Civ. No. 68-513-KI, (D. Or.). A management agreement for managing and regulating fisheries in the Columbia River Basin, entered as a court order in 2008, expires December 31, 2017. The Parties are negotiating a new agreement that would take effect when the existing agreement expires. The new agreement would include a list of hatchery programs with stipulated production levels, and a list of Tribal and non-Tribal salmonid fisheries in the Columbia River Basin, including designated off-channel sites, which are intended to: (1) Ensure fair sharing of harvestable fish between tribal and non-tribal fisheries in accordance with Treaty fishing rights standards and U.S. v. Oregon, and (2) be responsive to the needs of ESA-listed species. While the agreement includes a hatchery production component, the NEPA analysis of hatchery production within the action area has been completed, or will be supplemented, in a separate EIS that will be incorporated by reference in this EIS. Consequently, the Proposed Action in this EIS analysis focuses on harvest. Construction of new hatchery facilities to mitigate impacts to fisheries from The Dalles Dam and John Day Dam hydropower operations is being analyzed by the U.S. Army Corps of Engineers in a separate analysis, which will also be incorporated by reference into this analysis.

Environmental Impact Statement

NEPA (42 U.S.C. § 4321 et seq.) requires that Federal agencies conduct an environmental analysis of their Proposed Actions to determine if the actions may significantly affect the human environment. The Services have determined that an EIS should be prepared under NEPA for the purpose of informing the Services' proposed signing of the new agreement. The information and analysis in the EIS will help to inform the subsequent ESA Section 7 consultation on the new agreement. The Services will prepare the EIS as joint lead agencies (40 CFR §§ 1501.5, 1508.16) in consultation with the Treaty Tribes pursuant to the Federal trust responsibility, Secretarial Order 3206, and Executive Order 13175. We will prepare an EIS in accordance with NEPA requirements, as amended (40 U.S. C. § 4321 et seq.); NEPA implementing regulations (40 CFR §§ 1500-1508); and other Federal laws, regulations, and policies.

The Services' purpose and need for the Proposed Action is three-fold: (1) To meet the Federal government's tribal treaty rights and trust and fiduciary responsibilities; (2) to support fishing opportunities to the states of Oregon, Washington, and Idaho, and the tribes; and (3) to work collaboratively with co-managers to protect and conserve ESA-listed and non-listed species.

Development of Initial Alternatives

The Services have preliminarily identified the following six alternatives for the public to consider. The preferred alternative will be developed to reflect a policy direction that would be compatible with the Purpose and Need indicated above.

No-action Alternative (status quo): Under this alternative, the Services would not sign a new agreement, and the parties would continue to manage salmonid fisheries in the Columbia River consistent with the terms of the 2008-2017 agreement. A No-action Alternative is required in the full range of analyzed alternatives.

Abundance-based Management Alternative: Under this alternative, the Services would sign a new agreement with the other parties, and salmonid fisheries in the Columbia River would be managed under an abundance-based management framework.

Fixed Exploitation Rate Management Alternative: Under this alternative, the Services would sign a new agreement with the other parties, and salmonid fisheries in the Columbia River would be managed under a fixed exploitation rate management framework.

Escapement-based Management Alternative: Under this alternative, the Services would sign a new agreement with the other parties, and salmonid fisheries in the Columbia River would be managed under an escapement-based management framework.

Fixed Effort-based Management Alternative: Under this alternative, the Services would sign a new agreement with the other parties, and salmonid fisheries in the Columbia River would be managed under a fixed effort management framework.

No Fisheries Alternative: Under this alternative, the Services would sign a new agreement with the other parties; however, the parties would decide that salmonid fisheries would not be allowed in the Columbia River. Although this alternative does not meet the purpose and need for the Proposed Action, it is included to provide a full range of alternatives for analysis.

Request for Comments

The Services request data, comments, pertinent information, or suggestions from the public, other concerned governmental agencies, the scientific community, tribes, the business community, or any other interested party regarding the Proposed Action discussed in this notice. We will consider all comments we receive in complying with the requirements of NEPA. We particularly seek specific comments concerning:

(1) The direct, indirect, and cumulative effects that implementation of any reasonable alternative could have on endangered and threatened species, and other non-ESA-listed species and their habitats;

(2) Other reasonable alternatives (in addition to the initial alternatives presented in this notice), and their associated effects;

(3) Measures that would minimize and mitigate potentially adverse effects of the proposed actions;

(4) Other plans or projects that might be relevant to this project.

The EIS will analyze the effects that the various alternatives would have on salmon and steelhead and other fish species in the Columbia River Basin as well as the other aspects of the human environment, including but not limited to, water quality, habitat, wildlife (ESA-listed and non-ESA-listed), vegetation, socioeconomics (including fishery dependent communities and culture and economic impacts), environmental justice, cultural resources, transportation, and the cumulative impacts of the alternatives.

Authority: 42 U.S.C. 4321 et seq.

Dated: June 27, 2016.
Angela Somma,
Chief, Endangered Species Division, National Marine Fisheries Service, Protected Resources.
Dated: June 22, 2016.
Robyn Thorson,
Regional Director, Pacific Region, U.S. Fish and Wildlife Service, Portland, Oregon.

[FR Doc. 2016-15688 Filed 6-30-16; 8:45 am]

BILLING CODE 3510-22-P; 4333-15-P